DEPARTMENT OF COMMERCE

National Oceanic and Atmospheric Administration

RIN 0648-XG517

Endangered Species; File Nos. 19641-01, 20340-05, 20347-03, 20528-02, and 22671

AGENCY: National Marine Fisheries Service (NMFS), National Oceanic and Atmospheric Administration (NOAA), Commerce.

ACTION: Notice; receipt of applications for a permit and permit modifications.

SUMMARY: Notice is hereby given that five applicants have applied in due form for a permit or permit modification to take shortnose (Acipenser brevirostrum) and Atlantic (Acipenser oxyrinchus) sturgeon for purposes of scientific research and enhancement.

DATES: Written, telefaxed, or email comments must be received on or before December 31, 2018.

ADDRESSES: The permit and permit modification requests and related documents are available for review by selecting “Records Open for Public Comment” from the Features box on the Applications and Permits for Protected Species (APPS) home page, https://apps.nmfs.noaa.gov, and then selecting the applicable File No. from the list of available applications. These documents are also available upon written request or by appointment in the Permits and Conservation Division, Office of Protected Resources, NMFS, 1315 East-West Highway, Room 13705, Silver Spring, MD 20910; phone (301) 427-8401; fax (301) 713-0376.

Written comments on the pertinent application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Malcolm Mohead (for File Nos. 19641-01, 20347-03, and 22671) or Erin Markin (for File Nos. 20340-05 and 20528-02), (301) 427-8401.

SUPPLEMENTARY INFORMATION: The subject new permit and permit modifications are requested under the authority of the Endangered Species Act of 1973, as amended (ESA; 16 U.S.C. 1531 et seq.) and the regulations governing the taking, importing, and exporting of endangered and threatened species (50 CFR parts 222-226).

File No. 19641-01: Permit No. 19641 was issued on March 29, 2017 (82 FR 16996) to the Connecticut Department of Energy and Environmental Protection, Marine Fisheries, P.O. Box 719, Old Lyme, Connecticut 06371 (Responsible Party: Tom Savoy), authorizing collecting, tagging and, monitoring the presence, abundance, diet, age and sex composition of shortnose and Atlantic sturgeon in Connecticut waters. Atlantic and shortnose sturgeon are currently authorized to be captured (using gill nets and trawls) measured, tissue sampled, gastric lavaged, passive integrated transponder (PIT) tagged, anesthetized, internally tagged, age sampled, photographed, and weighed prior to release. The permit holder now requests authorization to: (1) Increase the numbers of Atlantic sturgeon juvenile life stages that may be taken from 50 to 250 annually, (2) increase numbers of shortnose sturgeon adult and sub-adult life stages that may be taken from 130 to 250 annually, and (3) include new take for lethally collecting up to 250 early life stages of shortnose sturgeon using egg mats or D-nets. The additional numbers of captured fish would be measured, weighed, PIT tagged, genetically sampled, and photographed prior to release. The increases are requested to accommodate improvements in population abundance estimates for the respective species. The permit expires March 31, 2027.

File No. 20437-03: Permit No. 20437 was issued March 29, 2017 (82 FR 16996) to the University of Maine, School Of Marine Sciences, 5741 Libby Hall, Room 202A, Orono, ME 04469-5741 (Responsible Party: Gayle Zydlewski, Ph.D.), authorizing research on Atlantic and shortnose sturgeon, collecting all life stages (using trawls, gill nets, trot lines, and beach seines, egg matts and D-nets), internal and external tagging, anesthetizing, borescoping, PIT tagging, Floy tagging, weighing, measuring, tissue sampling, age sampling, and monitoring the presence, abundance, diet, sex composition, and large scale movements of each species in Gulf of Maine (GOM) waters. The permit holder requests authorization to increase the numbers of Atlantic and shortnose sturgeon collected from the Merrimack, Penobscot Rivers, and in other areas of the GOM. In the Merrimack River (MA), the permit holder requests to capture and acoustically tag increased numbers of juvenile Atlantic (from 10 to 15) and shortnose sturgeon (from 15 to 25) to better refine the movements of each species. In other selected GOM rivers, the permit holder also requests 15 additional Atlantic sturgeon juveniles to be taken and acoustically tagged in order to further refine coastal movements. In the Penobscot River (ME), the permit holder requests the numbers of shortnose sturgeon adults and sub-adults taken be increased from 200 to 300 in order to accommodate more precise population abundance estimates for the species. The permit expires March 31, 2027.

File No. 20340-05: Permit No. 20340 was issued March 29, 2017 (82 FR 16996) to the New York State Department of Environmental Conservation, 205 Belle Mead Road, East Setuaket, NY 11733 (Responsible Party: Kim McKown), authorizing research on Atlantic and shortnose sturgeon to determine movement of adult sturgeon in the Hyde Park area of the Hudson River, movement of age-1 sturgeon Hudson River-wide, respective species population estimates, and habitat utilization. Fish may be collected by gill nets or trawls year-round during ice-free periods. Upon capture, fish may be measured, weighed, PIT tagged, tissue sampled, and photographed. A subset of fish may be externally and/or internally tagged, fin ray sampled for ageing, gastric lavaged, gonadal biopsied, and blood sampled. Samples Atlantic sturgeon ELS may also lethally collected to document spawning in systems. Up to four Atlantic sturgeon and three shortnose sturgeon may unintentionally die annually during research. The permit holder requests authorization to: (1) Mark Atlantic and shortnose sturgeon using oxytetracycline for ageing studies, (2) lethally collect shortnose sturgeon ELS, and (3) sample leading fin rays to validate age assignments. The permit expires March 31, 2027.

File No. 20528-02: Permit No. 20528 was issued March 29, 2017 (82 FR 16996) to the South Carolina Department of Natural Resources, 217 Fort Johnson Road, Charleston, SC 29412 (Responsible Party: Bill Post), authorizing a permit to conduct research on Atlantic and shortnose sturgeon to determine their presence, status, health, habitat use, and movements in South Carolina waters. Researchers may use gill nets to capture Atlantic and shortnose sturgeon to measure, weigh, PIT tag, tissue sample, and photograph prior to release. A subset of individuals may be acoustically tagged, fin ray sampled, and gonadal biopsied. Early life stages of each species may be lethally sampled to document occurrence of spawning in systems. Up to two sturgeon of each species may unintentionally die annually during sampling activities. The permit holder is requesting authorization to: (1) Increase the number of juvenile and sub-adult/adult shortnose sturgeon captures in the Edisto River from 5 to 10, respectively, (2) collect blood samples from sub-adult/adult sturgeon for sex determination in the Cooper River, and (3) expand research to the Waccamaw River and Lakes Moultrie and Marion in South Carolina. Up to 150 juvenile Atlantic sturgeon and 50 juvenile shortnose sturgeon may be captured using gill nets in the Waccamaw River and PIT tagged, biologically sampled (fin clip, fin ray clip), weighed, measured, and photographed/videoed prior to release. Up to 10 juvenile and 95 sub-adult/adult shortnose sturgeon may be captured using gill nets in Lakes Moultrie and Marion and PIT tagged, biologically sampled (fin clip, fin ray clip), weighed, measured, and photographed/videoed prior to release. A subset of captured fish may be internally tagged. The permit expires March 31, 2027.

File No. 22671: The Conte Anadromous Fish Research Laboratory, U.S. Geological Survey (USGS), Biological Resources Discipline (BRD), 1 Migratory Way, Turners Falls, MA 01376 (Responsible Party: Adria Elskus, Ph.D.), requests a 10-year permit studying the life history, population size, migration, physiology, and passage of shortnose sturgeon in the Connecticut River. The action area includes three segments: Bellows Falls Dam (Bellows Falls, VT) to the Turner Falls Dam (Montague, MA), Turner Falls Dam to the Holyoke Dam (Holyoke, MA), and Holyoke Dam to the Massachusetts-Connecticut border (Agawam, MA). Additional tracking of telemetered fish would take place to the mouth of the Connecticut River. To conduct studies, the applicant requests capturing up to 195 adult/sub-adult and 185 juvenile shortnose sturgeon annually using gill nets or trawls and 200 early life stages (ELS) would be lethally sampled using egg matts or D-nets to determine the incidence of spawning in the river. The older life stages would be measured, weighed, passive integrated transponder (PIT) tagged, tissue sampled (i.e., genetic and blood), sexed (i.e., using a borescope), photographed, and prophylactically treated prior to release. A subset of the adult, sub-adult and juvenile animals would also be anesthetized and be either internally or externally tagged prior to release. Up to two juvenile and one adult/sub-adult shortnose sturgeon may be incidentally killed caused by capture and sampling activities.

The applicant also proposes using captive (non-releasable) adult, sub-adult, juvenile, and ELS shortnose and Atlantic sturgeon for objectives related to: Pathology, propagation techniques, anesthesiology, neurology, fish passage, fish behavior, technology (e.g., tagging); toxicology, genetics, contaminants, immunology, euthanasia, life history, water quality, nutrition, endocrinology, and captive educational display (i.e., enhancement activities). Additional specimens required would either be propagated or cultured at the facility or acquired elsewhere by import or receipt. Excess numbers of individual sturgeon would be used as a source-supply for co-investigators working collaboratively on the permit while conducting similar research or enhancement activities.

Dated: November 26, 2018.
Julia Marie Harrison,
Chief, Permits and Conservation Division, Office of Protected Resources, National Marine Fisheries Service.

[FR Doc. 2018-25955 Filed 11-28-18; 8:45 am]

BILLING CODE 3510-22-P